DEPARTMENT OF TRANSPORTATION

Office of the Secretary

Notice of Applications for Certificates of Public Convenience and Necessity and Foreign Air Carrier Permits Filed Under Subpart B (Formerly Subpart Q) During the Week Ending August 18, 2006

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2006-25275.

Date Filed: August 17, 2006.

Due Date for Answers, Conforming Applications, or Motion To Modify Scope: September 7, 2006.

Description: Application of Northwest Airlines Inc. requesting allocation of U.S.-China frequencies, and seeking a new or amended certificate authorizing Northwest to provide nonstop scheduled foreign air transportation of persons, property and mail between its major hub at Detroit, MI and Shanghai, People's Republic of China.

Renee V. Wright,
Program Manager, Docket Operations, Federal Register Liaison.

[FR Doc. E6-14704 Filed 9-5-06; 8:45 am]

BILLING CODE 4910-9X-P